DEPARTMENT OF COMMERCE

Foreign-Trade Zones Board

[B-29-2022]

Foreign-Trade Zone (FTZ) 57—Mecklenburg County, North Carolina; Authorization of Production Activity; Exela Pharma Sciences, LLC (Pharmaceutical Products), Lenoir, North Carolina

On July 28, 2022, the Charlotte Regional Business Alliance, grantee of FTZ 57, submitted a notification of proposed production activity to the FTZ Board on behalf of Exela Pharma Sciences, LLC, within Subzone 57D, in Lenoir, North Carolina.

The notification was processed in accordance with the regulations of the FTZ Board (15 CFR part 400), including notice in the Federal Register inviting public comment (87 FR 47962, August 5, 2022). On November 25, 2022, the applicant was notified of the FTZ Board's decision that no further review of the activity is warranted at this time. The production activity described in the notification was authorized, subject to the FTZ Act and the FTZ Board's regulations, including Section 400.14.

Dated: November 25, 2022.
Andrew McGilvray,
Executive Secretary.

[FR Doc. 2022-26100 Filed 11-29-22; 8:45 am]

BILLING CODE 3510-DS-P